INTER-AMERICAN FOUNDATION

Sunshine Act Meetings

TIME AND DATE: March 2, 2017, 12:00 p.m.-1:00 p.m.

PLACE: Via tele-conference hosted at Inter-American Foundation, 1331 Pennsylvania Ave. NW., Suite 1200 North Building, Washington, DC 20004.

STATUS: Meeting of the Board of Directors, Closed to the Public as provided by 22 CFR 1004.4(b).

MATTERS TO BE CONSIDERED:

Executive Session

PORTION TO BE CLOSED TO THE PUBLIC:

Executive session to discuss recruitment of President/CEO—closed session as provided by 22 CFR 1004.4(b).

CONTACT PERSON FOR MORE INFORMATION: Paul Zimmerman, General Counsel, (202) 683-7118.

Paul Zimmerman,
General Counsel.

[FR Doc. 2017-03581 Filed 2-21-17; 11:15 am]

BILLING CODE 7025-01-P